DEPARTMENT OF THE INTERIOR

Bureau of Land Management

[CACA 51793, LLCA9300000, L54100000]

Notice of Realty Action: Conveyance of Federally Owned Mineral Interests in Kern County, CA

AGENCY: Bureau of Land Management, Interior.

ACTION: Notice of realty action.

SUMMARY: The surface owner, George Sullivan, filed an application on April 5, 2010 for the conveyance of the federally-owned mineral interests of a 10.98 acre tract of land in Kern County, California. Publication of this notice temporarily segregates the mineral interests in the land covered by the application from appropriation under the mining and mineral leasing laws for up to 2 years to determine the suitability of the federally-owned mineral interests for conveyance pursuant to Section 209 of the Federal Land Policy and Management Act of October 21, 1976.

DATES: Interested persons may submit written comments to the Bureau of Land Management (BLM) at the address listed below. Comments must be received no later than December 30, 2011.

ADDRESSES: Bureau of Land Management, California State Office, 2800 Cottage Way, Sacramento, California 95825. Detailed information concerning this action is available for review at this address.

FOR FURTHER INFORMATION CONTACT: Elizabeth Easley, Realty Specialist, BLM, California State Office, 2800 Cottage Way, Sacramento, California 95825, or phone (916) 978-4673. Persons who use a telecommunications device for the deaf (TDD) may call the Federal Information Relay Service (FIRS) at (800) 877-8339 to contact the above individual during normal business hours. The FIRS is available 24 hours a day, 7 days a week, to leave a message or question for the above individual. You will receive a reply during normal business hours.

SUPPLEMENTARY INFORMATION: The land referred to in this notice consists of a 10.98 acre tract situated in Kern County, California, described as follows:

San Bernardino Meridia

T. 11 N., R. 24 W.,

Sec. 14, being a portion of the NW¼NW¼ described as:

Beginning at the northwest corner of said sec. 14; thence north 89°03′10″ east, a distance of 972.60 feet to a point on the northwest line of California State Highway 166, thence south 43°49′00″ west along the northwest line of said highway, a distance of 1181.86 feet; thence southwesterly along the northwest line of said highway on the arc of a circle having a radius of 730 feet; being concave to the southeast with an interior angle of 21°46′28″, a distance of 277.47 feet to the west line of said section 14; thence north 0°13′30″ west along the west line of said section, a distance of 1068.04 feet to the point of beginning.

Excepting therefrom that portion as deeded to the State of California recorded March 3, 1981 in book 5355 page 2425 of official records, file no. 020797. The area described contains 10.98 acres in Kern County.

Under certain conditions, Section 209(b) of the Federal Land Policy and Management Act of October 21, 1976, 43 U.S.C. 1719 authorizes the sale and conveyance of the federally-owned mineral interests in land when the surface estate is not federally-owned.

The objective is to allow consolidation of the surface and subsurface mineral interests when either one of the following conditions exist: (1) There are no known mineral values in the land; or (2) Where continued Federal ownership of the mineral interests interferes with or precludes appropriate non-mineral development and such development is a more beneficial use of the land than mineral development.

An application was filed for the sale and conveyance of the federally-owned mineral interests in the above-described tract of land. Subject to valid existing rights, on November 15, 2011 the federally-owned mineral interests in the land described above are hereby segregated from appropriation under the public land laws, including the mining laws, while the application is being processed to determine if either one of the two specified conditions exists, and if so, to otherwise comply with the procedural requirements of 43 CFR part 2720. The temporary segregative effect shall terminate: (1) Upon issuance of a patent or other document of conveyance as to such mineral interests; (2) Upon final rejection of the application; or (3) November 15, 2013, whichever occurs first.

Comments: Your comments are invited. Please submit all comments in writing to Elizabeth Easley at the address listed above. Include your address, phone number, email address, or other personal identifying information in your comment. You should be aware that your entire comment—including your personal identifying information—may be made available to the public at any time. While you can ask in your comment to withhold your personal identifying information from public review, we cannot guarantee that we will be able to do so.

Authority: 43 CFR 2720.1-1(b).

Tom Pogacnik,
Deputy State Director, Natural Resources.

[FR Doc. 2011-29475 Filed 11-14-11; 8:45 am]

BILLING CODE 4310-40-P